DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: Comments on the petitions must be received by the Office of Standards, Regulations, and Variances on or before July 9, 2007.

ADDRESSES: You may submit your comments, identified by “docket number” on the subject line, by any of the following methods:

1. E-Mail: Standards-Petitions@dol.gov.

2. Telefax: 1-202-693-9441.

3. Hand-Delivery or Regular Mail: Submit comments to the Mine Safety and Health Administration (MSHA), Office of Standards, Regulations, and Variances, 1100 Wilson Boulevard, Room 2349, Arlington, Virginia 22209, Attention: Patricia W. Silvey, Director, Office of Standards, Regulations, and Variances.

We will consider only comments postmarked by the U.S. Postal Service or proof of delivery from another delivery service such as UPS or Federal Express on or before the deadline for comments. Individuals who submit comments by hand-delivery are required to sign-in at the receptionist desk on the 21st floor.

Individuals may inspect copies of the petitions and comments during normal business hours at the address listed above.

FOR FURTHER INFORMATION CONTACT: Edward Sexauer, Chief, Regulatory Development Division at 202-693-9444 (Voice), sexauer.edward@dol.gov (E-mail), or 202-693-9441 (Telefax), or contact Barbara Barron at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard, or (2) the application of such standard to such mine will result in a diminution of safety to the miners in such mine. In addition, the regulations at 30 CFR 44.10 and 44.11 establish the requirements and procedures for filing petitions for modifications.

II. Petitions for Modification

Docket Number: M-2007-007-C.

Petitioner: Mingo Logan Coal Company, P.O. Box 553, Charleston, West Virginia 25322.

Mine: Mountaineer II Mine, (MSHA I.D No. 46-09029), located in Logan and Boone Counties, West Virginia.

Regulation Affected: 30 CFR 75.1700 (Oil and gas wells).

Modification Request: The petitioner proposes to plug abandoned oil and gas wells, (including injection wells) to mine them or to reduce the barrier size. The petitioner proposes to: (1) Clean out and prepare the oil and gas wells; (2) plug the oil and gas wells to the surface using a cement plug and a small amount of steel turnings; (3) plug the oil or gas wells using the vent pipe method; (4) plug the oil and gas wells for use as degasification boreholes; and (5) follow cut-through procedures whenever the petitioner reduces the safety barrier diameter to a distance less than the District Manager would approve or proceeds with an intent to cut-through a plugged well. The petitioner has listed additional specific procedures in this petition to implement the proposed alternative method. Individuals may review a complete description of the petition at the MSHA address listed in this notice. The petitioner asserts that the proposed alternative method will at all times guarantee no less than the same measure of protection afforded the miners under 30 CFR 75.1700.

Docket Number: M-2007-008-C.

Petitioner: The American Coal Company, 9085 Highway 34 North, Galatia, Illinois 62935.

Mine: Galatia Mine, (MSHA I.D. No. 11-02752), located in Saline County, Illinois.

Regulation Affected: 30 CFR 75.1700 (Oil and gas wells).

Modification Request: The petitioner requests modification of approved petition for modification, docket number M-88-246-C, addressing the drilling out and plugging of oil and gas wells at the Galatia Mine. This request is based on the following: (1) On occasion the mine operations have encountered wells drilled for oil and gas production that cannot be drilled out and plugged to meet the specifications in the approved petition for modification; (2) approved procedures are ineffective because the concrete used to plug the original wellbore is harder than the surrounding strata, making it difficult to keep the drill bit in the hole and on target for locating the original wellbore; (3) in the near future the petitioner will encounter hundreds of wells drilled for oil and gas production that it will be unable to drill out to meet the specifications in the approved petition for modification; and (4) a substantial number of the reserves at the mine will be rendered unmineable without the approval of this petition. The petitioner has listed specific procedures in this petition that will be used for compliance with the proposed alternative method including notification procedures; using driving sights; the availability of firefighting equipment; roof support; ventilation procedures; methane testing and other hazard prevention procedures. Individuals may review a complete description of the procedures at the MSHA address listed in this notice. The petitioner asserts that the proposed alternative method will at all times guarantee no less than the same measure of protection afforded the miners under 30 CFR 75.1700.

Docket Number: M-2007-009-C.

Petitioner: Postar Coal Company, Inc., 685 Cavitts Creek, North Tazewell, Virginia 24630.

Mine: Postar No. 1 Mine, (MSHA I.D. No. 46-07983), located in McDowell County, West Virginia.

Regulation Affected: 30 CFR 75.364(b)(4) (weekly examination).

Modification Request: The petitioner request a modification of the existing standard to permit an alternative method of examining the seals underground because the mine seals between the petitioner's mine and the abandoned U.S. Steel No. 9 Mine are in place to separate the mines and cannot be examined. The petitioner proposes to: (1) Drill two (2) monitoring holes from the surface to the entries at the Postar No. 1 Mine, MSHA I.D. No. 46-07983, side of the seals and drill two (2) monitoring holes from the entries of the Mine No. 35, MSHA I.D. No. 46-08131, side of the seals; (2) have a certified person examine and evaluate the monitoring holes; and (3) maintain a record of the examinations and evaluations in an approved record book. The petitioner states that the Postar No. 1 Mine is a drift operation with multiple outcrop and surface openings and has no history of methane or ventilation problems. The petitioner further states that the ventilation is setup to prevent any contaminant from the abandoned area reaching the working section. The petitioner asserts that the monitoring holes will provide the level of safety as required by 30 CFR 75.364(b)(4).

Docket Number: M-2007-010-C.

Petitioner: XMV, Inc., P.O. Box 1335, Bluefield, West Virginia 24701.

Mine: Mine No. 35, (MSHA I.D. No. 46-08131), located in McDowell County, West Virginia.

Regulation Affected: 30 CFR 75.364(b)(4) (Weekly examination).

Modification Request: The petitioner requests a modification of the existing standard to permit the inaccessible seals underground to be examined as follows: (1) Drilling two monitoring holes from the surface to the entries at the Mine No. 35, MSHA I.D. No. 46-08161, side of the seals and two monitoring holes from the surface to the entries at the Postar No. 1 Mine, MSHA I.D. No. 46-07983, side of the seals at locations listed on the mine map; (2) have a certified person examine and evaluate the monitoring holes on each side of the seals weekly to insure the integrity of the seals; and (3) record the results of the examinations and evaluations in an approved record book.

Docket Number: M-2007-011-C.

Petitioner: Blue Diamond Coal Company, P.O. Box 47, Slemp, Kentucky 41763.

Mine: Mine No. 75, (MSHA I.D. No. 15-17478), located in Perry County, Kentucky.

Regulation Affected: 30 CFR 75.364(b)(2) (Weekly examination).

Modification Request: The petitioner requests a modification of the existing standard because water accumulations in these areas cause roof falls, which prevent foot travel through these areas. Petitioner proposes to establish examination points at certain points to evaluate airflow entering the Powerline Mains. The petitioner also proposes to establish ventilation check points in certain areas of the mine between certain breaks and the Powerline Mains. The petitioner describes additional safety precautions, such as signage and establishing and monitoring air measurement stations at locations that would allow a certified person to effectively evaluate ventilation in the affected areas of the mine and signage. The petitioner states that no lesser degree of safety is ensured by traveling to the water on both sides and verifying adequate air volume and quality at the noted Examination Points. The petitioner has listed specific additional procedures in this petition that will be used to comply with the proposed alternative method. Individuals may review a complete description of the procedures at the MSHA address listed in this notice. The petitioner asserts that this petition for modification will provide no lesser degree of safety for the personnel at this mine.

Docket Number: M-2007-012-C.

Petitioner: Consol Energy on behalf of Eighty Four Mining Company, 1800 Washington Road, Pittsburgh, Pennsylvania 15241.

Mine: Mine 84, (MSHA I.D. No. 00958), located in Washington County, Pennsylvania.

Regulation Affected: 30 CFR 75.364(b)(2) (Weekly examination).

Modification Request: The petitioner requests a modification of the existing standard to permit an alternative method of compliance for examining the return air course. The petitioner proposes to establish evaluation points to monitor the air in the 33P Mains return air course in its entirety because deterioration, rib conditions, and roof falls expose workers to hazardous conditions. The petitioner proposes to use the following procedures to meet the requirements of its alternative method: (1) Establish evaluation point 33P E.P. B. on the upward side of the bad roof; (2) establish evaluation point 33P E.P.A. on the downwind side of the bad roof area; (3) have a certified person conduct weekly evaluations at each of the monitoring stations to determine the quantity and quality of air entering or exiting the monitoring stations using an MSHA approved hand-held methane and oxygen meter; and (4) record the date, time, and examiner's initials on a date board at each monitoring station and in a book kept on the surface The petitioner states that all monitoring stations and the approaches to the monitoring stations will be maintained in a safe condition at all times, and the roof will be adequately supported by roof bolts or other suitable means to prevent deterioration of the roof in the vicinity of the stations. The petitioner further states that methane gas or other harmful, noxious poisonous gases will not be permitted to accumulate in excess of the legal limits for return air. Petitioner will immediately investigate the affected area if there is an increase of 0.5 per centum methane from the last previous methane readings or a 10 percent change in the quantity of air flow. The petitioner asserts that the proposed alternative method would at all times guarantee no less than the same measure of protection to all miners at the Mine 84 as would be provided by the existing standard and that use of the evaluation points to measure air and gas will provide an accurate picture of the conditions of the air course without unduly exposing persons to safety hazards.

Docket Number: M-2007-013-C.

Petitioner: TJS Mining Company, Inc., 2340 Smith Road, Shelocta, Pennsylvania 15774.

Mine: Rossmoyne #1 Mine, (MSHA I.D. No. 36-09075), located in Indiana County, Pennsylvania.

Regulation Affected: 30 CFR 75.503 (Permissible electric face equipment; maintenance) and 30 CFR 18.35 (Portable trailing cables and cords).

Modification Request: The petitioner requests a modification of the existing standard to increase the cable length of cables supplying power to two (2) Fletcher Roof Ranger II Roof Bolters. The petitioner states that: (1) The utilization voltage for these machines is 480-volts, three-phase alternating current; (2) the maximum length of the 480-volt trailing cable will be 950 feet; (3) the trailing cables for the 480-volt Fletcher Roof Ranger will not be smaller than No. 2 American Wire Gauge (AWG) cable; (4) the current breakers that will be used to protect those cables in excess of 700 feet will have instantaneous trip units calibrated to trip at 500 amperes; and (5) all miners designated to operate the Roof Ranger II and individuals who examine the cables will receive the proper training prior to implementation of the proposed alternative method. The petitioner has listed additional procedures in this petition that will be used to comply with the proposed alternative method. Individuals may review a complete description of the procedures at the MSHA address listed in this notice. The petitioner asserts that the proposed alternative method will at all times guarantee no less than the same measure of protection afforded the miners by such standard with no diminution of safety to the miners.

Docket Number: M-2007-014-C.

Petitioner: TJS Mining Company, Inc., 2340 Smith Road, Shelocta, Pennsylvania 15774.

Mine: TJS #5 Mine, (MSHA I.D. No. 36-00159), located in Armstrong County, Pennsylvania.

Regulation Affected: 30 CFR 75.503 (Permissible electric face equipment; maintenance) and 30 CFR 18.35 (Portable trailing cables and cords).

Modification Request: The petitioner requests a modification of the existing standard to increase the cable length of cables supplying power to two (2) Fletcher Roof Ranger II Roof Bolters. The petitioner states that: (1) The utilization voltage for these machines is 480-volts, three-phase alternating current; (2) the maximum length of the 480-volt trailing cable will be 950 feet; (3) the trailing cables for the 480-volt Fletcher Roof Ranger will not be smaller than No. 2 American Wire Gauge (AWG) cable; (4) the current breakers that will be used to protect those cables in excess of 700 feet will have instantaneous trip units calibrated to trip at 500 amperes; and (5) all miners designated to operate the Roof Ranger II and individuals who examine the cables will receive the proper training prior to implementation of the proposed alternative method. The petitioner has listed additional procedures in this petition that will be used to comply with the proposed alternative method. Individuals may review a complete description of the procedures at the MSHA address listed in this notice. The petitioner asserts that the proposed alternative method will at all times guarantee no less than the same measure of protection afforded the miners by such standard with no diminution of safety to the miners.

Docket Number: M-2007-015-C.

Petitioner: Summit Engineering, Inc., P.O. Box 130, 3016 Route 10, Chapmanville, West Virginia 25508, on behalf of Spartan Mining Company.

Mine: No. 38 Mine, (MSHA I.D. No. 46-07874), located in Logan County, West Virginia.

Regulation Affected: 30 CFR 77.214(a) (Refuse piles; general).

Modification Request: The petitioner requests a modification to the current standard to backfill four (4) mine openings associated with the Spartan Mining Company with non-acid producing soil. The petitioner proposes to: (1) Extend the soil approximately 25 feet into the mine and at least 4 feet in all directions beyond the limits of the mine openings; (2) cover any exposed coal seam along the mine bench with soil to at least 4 feet above the coal seam; (3) install a rock underdrain along the mine openings that would consist of approximately 6-inch (O.D.) SDR 11 high density polyethylene pipes installed in the lowest elevation mine opening; and (4) install riser pipes at the ends of the pipes to establish water seals. The petitioner states that the existing mine bench and highwall will then be reclaimed with breaker rock coal refuse and the slope will be soil covered and revegetated in accordance with the approved West Virginia Department of Environmental Protection reclamation permit. The petitioner asserts that since the mine is abandoned, this plan will provide the same measure of protection for the miners as given to them by the standard.

Docket Number: M-2007-016-C.

Petitioner: Penn View Mining Company, 2340 Smith Road, Shelocta, Pennsylvania 15774.

Mine: Penn View Mine, (MSHA I.D. No. 36-08741), located in Indiana County, Pennsylvania.

Regulation Affected: 30 CFR 75.503 (Permissible electric face equipment; maintenance) and 30 CFR 18.35 (Portable trailing cables and cords).

Modification Request: The petitioner requests a modification of the existing standard to increase the cable length of cables supplying power to two (2) Fletcher Roof Ranger II Roof Bolters. The petitioner states that: (1) The utilization voltage for these machines is 480-volts, three-phase alternating current; (2) the maximum length of the 480-volt trailing cable will be 950 feet; (3) the trailing cables for the 480-volt Fletcher Roof Ranger will not be smaller than No. 2 American Wire Gauge (AWG) cable; (4) the current breakers that will be used to protect those cables in excess of 700 feet will have instantaneous trip units calibrated to trip at 500 amperes; and (5) all miners designated to operate the Roof Ranger II and for individuals who examine the cables will receive the proper training prior to implementation of the proposed alternative method. The petitioner has listed additional procedures in this petition that will be used to comply with the proposed alternative method. Individuals may review a complete description of the procedures at the MSHA address listed in this notice. The petitioner asserts that the proposed alternative method will at all times guarantee no less than the same measure of protection afforded the miners by such standard with no diminution of safety to the miners.

Docket Number: M-2007-017-C.

Petitioner: The North American Coal Company, P.O. Box 399, Jourdanton, Texas 78026.

Mine: San Miguel Mine, (MSHA I.D. No. 41-02840), located in Atascosa County, Texas.

Regulation Affected: 30 CFR 77.803 (Fail safe ground check circuits on high-voltage resistance grounded systems).

Modification Request: The petitioner requests a modification of the existing standard to permit an alternative method for raising or lowering the boom during construction and maintenance, disassembly, or major maintenance to prevent power loss and injuries to workers. The petitioner listed specific guidelines in this petition that would be used to minimize the potential for electrical power loss to the boom when raising or lowering the boom on draglines using the machines electrical onboard motor generator sets. The petitioner states that: (1) This procedure will most likely be used for boom raising and boom lowering during disassembly or major maintenance; (2) major maintenance requiring the raising/lowering of the boom/mast would only be performed as needed, which could be for long periods of time; (3) training and retraining will be conducted, prior to the need, for all persons involved in the process; (4) the affected area would be secured; (5) a dedicated channel on a two-way radio would be used to communicate at the dragline; (6) a qualified electrician will examine all electrical components 2 hours prior to the boom process and record the examinations; (7) ground fault and ground check circuits will be disabled under certain conditions; and (8) a qualified electrician will be positioned at the substation dedicated to monitor the grounding circuit. The petitioner states that the proposed alternative method is not an application that would result in a diminution of safety to the miners.

Docket Number: M-2007-003-M.

Petitioner: Intrepid Potash NM, LLC, P.O. Box 101, Carlsbad, New Mexico 88220.

Mine: Intrepid Underground Potash Mine, (MSHA I.D. No. 29-00175), located in Eddy County, New Mexico.

Regulation Affected: 30 CFR 57.18028 (Mine emergency and self-rescuer training). Modification Request: The petitioner proposes to use 10-Minute (Oeanco M-20 or equivalent) and 60-Minute Self-Contained Self-Rescuers (SCSRs) in its Underground Potash Mine outside of Carlsbad, New Mexico to comply with the New Mexico State Mining Act. The petitioner states that the miner would wear the M-20 units (MSHA rated at 10 minutes) on their person and a 60-Minute unit (the SR-100, EBA 6.5 or equivalent MSHA rated for 60 minutes) on their vehicles or equipment. The units would be located within 200 to 500 feet or 5 minutes maximum of the employee. The petitioner further states that: (1) The alternative to the M-20 type are bulky and heavy units that would expose miners to additional risk; and (2) all training on the Ocenco M-20 and the SR 100 will be conducted according to manufacturer's recommendations and applicable MSHA and New Mexico State standards. The petitioner asserts that the proposed alternative method would provide at least the same measure of protection as the existing standard.

Docket Number: M-2007-004-M.

Petitioner: Intrepid Potash NM, LLC, P.O. Box 101, Carlsbad, New Mexico 88220.

Mine: Intrepid Underground Potash Mine, (MSHA I.D. No. 29-00170), located in Lea County, New Mexico.

Regulation Affected: 30 CFR 57.18028 (Mine emergency and self-rescuer training). Modification Request: The petitioner proposes to use 10-Minute (Oeanco M-20 or equivalent) and 60-Minute Self-Contained Self-Rescuers (SCSRs) in its Underground Potash Mine outside of Carlsbad, New Mexico to comply with the New Mexico State Mining Act. The petitioner states that the miner would wear the M-20 units (MSHA rated at 10 minutes) on their person and a 60-Minute unit (the SR-100, EBA 6.5 or equivalent MSHA rated for 60 minutes) on their vehicles or equipment. The units would be located within 200 to 500 feet or 5 minutes maximum of the employee. The petitioner further states that: (1) The alternative to the M-20 type are bulky and heavy units that would expose miners to additional risk; and (2) all training on the Ocenco M-20 and the SR 100 will be conducted according to manufacturer's recommendations and applicable MSHA and New Mexico State standards. The petitioner asserts that the proposed alternative method would provide at least the same measure of protection as the existing standard.

Dated: June 1, 2007.
Jack Powasnik,
Acting Deputy Director, Office of Standards, Regulations, and Variances.

[FR Doc. E7-11129 Filed 6-7-07; 8:45 am]

BILLING CODE 4510-43-P